DEPARTMENT OF AGRICULTURE

Forest Service

Eastern Washington Cascades Provincial Advisory Committee and the Yakima Provincial Advisory Committee

AGENCY: Forest Service, USDA.

ACTION: Notice of meeting.

SUMMARY: The Eastern Washington Cascades Provincial Advisory Committee and the Yakima Provincial Advisory Committee will meet on April 12, 2012 from 9 a.m. to 3 p.m. at the Washington State Parks office, 270 9th Street NE., East Wenatchee, WA. During this meeting information will be shared about the Forest Service Chief's 10-Year Stewardship Challenge, Upper Yakima Basin Water Enhancement Project, Holden Mine Remediation progress, and an update on the Forest Plan Revision. All Eastern Washington Cascades and Yakima Province Advisory Committee meetings are open to the public.

FOR FURTHER INFORMATION CONTACT: Direct questions regarding this meeting to Clint Kyhl, Designated Federal Official, USDA, Okanogan-Wenatchee National Forest, 215 Melody Lane, Wenatchee, Washington 98801, phone 509-664-9200.

Dated: March 21, 2012.
Clinton Kyhl,
Designated Federal Official, Okanogan-Wenatchee National Forest.

[FR Doc. 2012-7368 Filed 3-27-12; 8:45 am]

BILLING CODE 3410-11-P